DEPARTMENT OF THE INTERIOR

Fish and Wildlife Service

Hanford Reach National Monument Federal Advisory Committee Meetings Notice

AGENCY: Fish and Wildlife Service, Interior.

ACTION: Notice of Hanford Reach National Monument Federal Advisory Committee Meetings.

SUMMARY: The U.S. Fish and Wildlife Service is announcing four meetings of the Hanford Reach National Monument Federal Planning Advisory Committee (Committee). All meetings will take place at the Consolidated Information Center, Washington State University Tri-Cities Campus in Richland, Washington (see ADDRESSES). Verbal comments will be considered during the course of the meeting and written comments will be accepted that are submitted by the close of the meeting.

DATES: The Hanford Reach National Monument Advisory Committee meetings are:

1. Wednesday, August 14, 2002, from 9:30 a.m. to 4:00 p.m.

2. Tuesday, September 10, 2002, from 9:00 a.m. to 4:00 p.m.

3. Wednesday, October 16, 2002, from 9:00 a.m. to 4:00 p.m.

4. Tuesday, November 19, 2002, from 9:00 a.m. to 4:00 p.m.

ADDRESSES: All meetings will take place at the Consolidated Information Center, Washington State University Tri-Cities Campus, 2770 University Drive, Richland, Washington, in Rooms 120 and 120A. Any member of the public wishing to submit written comments should send their comments to Greg Hughes, Designated Federal Official for the Hanford Reach National Monument Federal Planning Advisory Committee, Hanford Reach National Monument/Saddle Mountain National Wildlife Refuge, 3250 Port of Benton Blvd., Richland, Washington 99352; fax (509) 375-0196. Copies of the draft meeting agenda can be obtained from the Designated Federal Official.

FOR FURTHER INFORMATION CONTACT: For further information concerning any of the meetings please contact Greg Hughes, Designated Federal Official for the Hanford Reach National Monument (HRNM) Federal Planning Advisory Committee; phone (509) 371-1801, fax (509) 375-0196.

SUPPLEMENTARY INFORMATION: Over the next several months, the Hanford Reach National Monument Federal Planning Advisory Committee will consider feedback received during the public scoping process from June 12, 2002, through October 12, 2002. Parallel to the scoping process, the Committee will meet to hear from surrounding Native Americans on their valid existing rights and traditional uses in the Monument, and to consider baseline information received during the Cultural Resources, Wildlife and Habitat, and Public Uses Reviews. The Committee will also consider draft visions and goals for the Monument Comprehensive Conservation Plan (CCP).

Dated: July 15, 2002.
Don Weathers,
Acting Regional Director, Region 1, Portland, Oregon.

[FR Doc. 02-19254 Filed 7-29-02; 8:45 am]

BILLING CODE 4310-55-P